DEPARTMENT OF COMMERCE

International Trade Administration

[A-427-818]

Low Enriched Uranium From France: Final Results of Changed Circumstances Review

AGENCY: Enforcement and Compliance, formerly Import Administration, International Trade Administration, Department of Commerce.

SUMMARY: The Department of Commerce (the Department) has extended the deadline, until November 1, 2015, for the re-exportation of one specified entry of low enriched uranium (LEU) that entered under a narrow provision excluding it from the scope of the antidumping (AD) order.¹ The Department also determined that this will be the final extension of the re-exportation deadline.

¹ See Low Enriched Uranium from France: Initiation of Expedited Changed Circumstances Review, and Preliminary Results of Changed Circumstances Review, 78 FR 52905 (August 27, 2013) (Preliminary Results).

DATES: Effective: November 7, 2013.

FOR FURTHER INFORMATION CONTACT: Andrew Huston or Mark Hoadley, AD/CVD Operations, Office VII, Enforcement and Compliance, International Trade Administration, U.S. Department of Commerce, 14th Street and Constitution Avenue NW., Washington, DC 20230; telephone: (202) 482-4261 or (202) 482-3148, respectively.

SUPPLEMENTARY INFORMATION:

Background

Since the publication of the Preliminary Results, the following events have taken place. Eurodif S.A. and AREVA NP Inc. (collectively, AREVA) submitted comments on September 11, 2013. No other party submitted comments and no rebuttal comments were filed.

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).

Certain merchandise is outside the scope of the order. Specifically, the order does not cover enriched uranium hexafluoride with a U²³⁵ assay of 20 percent or greater, also known as highly-enriched uranium. In addition, fabricated low-enriched uranium is not covered by the scope of the order. For purposes of the order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of the order.

Also excluded from the order is low-enriched uranium owned by a foreign utility end-user and imported into the United States by or for such end-user solely for purposes of conversion by a U.S. fabricator into uranium dioxide (UO2) and/or fabrication into fuel assemblies so long as the uranium dioxide and/or fuel assemblies deemed to incorporate such imported low-enriched uranium (i) remain in the possession and control of the U.S. fabricator, the foreign end-user, or their designed transporter(s) while in U.S. customs territory, and (ii) are re-exported within eighteen (18) months of entry of the low-enriched uranium for consumption by the end-user in a nuclear reactor outside the United States. Such entries must be accompanied by the certifications of the importer and end-user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise subject to this proceeding is dispositive.

Final Results of Expedited Changed Circumstances Review

The Department continues to find that changed circumstances exist (i.e., the Japanese end-user remains unable to take delivery due to ongoing improvements and countermeasures following the March 11, 2011 earthquake and tsunami in Japan), and that it is appropriate to extend the deadline for re-exportation of this sole entry of low-enriched uranium. The Department determines that the deadline for re-exportation of this sole entry is November 1, 2015, and that this will be the final extension. The Department further determines that, if the Japanese end-user is unable to take delivery by the November 1, 2015 deadline, AREVA, the U.S. importer as well as the French exporter, will be required to re-export this sole entry to France or pay antidumping duties on the entry at the applicable rate. AREVA and the end-user will be required to submit amended certifications to U.S. Customs and Border Protection (CBP). The Department will release amended certifications to parties for comment before AREVA and the end-user are required to submit to such certifications to CBP.

Instructions to CBP

The Department will inform CBP that the deadline for re-exportation of the single entry at issue is extended to November 1, 2015. The Department will instruct CBP to collect amended certifications from AREVA and its end-user within 30 days of publication of these final results of changed circumstances review.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

We are issuing and publishing these preliminary results and notice in accordance with sections 751(b)(1) and 777(i)(1) and (2) of the Act and 19 CFR 351.216.

Dated: October 31, 2013.
Paul Piquado,
Assistant Secretary for Enforcement and Compliance.

[FR Doc. 2013-26742 Filed 11-6-13; 8:45 am]

BILLING CODE 3510-DS-P